DEPARTMENT OF TRANSPORTATION

Federal Aviation Administration

Airborne Omega Receiving Equipment

AGENCY: Federal Aviation Administration (FAA), DOT.

ACTION: Notice of cancellation of: (1) Omega navigation system Technical Standard Orders (TSO); and (2) the revocation of Omega navigation system TSO Authorizations (TSOA).

SUMMARY: This notice announces the cancellation of Technical Standard Orders (TSO) C-94, Airborne Omega Receiving Equipment; TSO-C94a, Omega Receiving Equipment Operating Within the Radio Frequency Range of 10.2 to 13.6 Kilohertz; and TSO-C120, Airborne Area Navigation Equipment Using Omega/VLF Inputs. The effect of the cancelled TSOs will result in the revocation of all Technical Standard Order Authorizations issued for the production of those navigational systems. These actions are necessary because the Omega Navigation System ceased operation on September 30, 1997.

DATES: Comments must be received on or before September 8, 2008.

FOR FURTHER INFORMATION CONTACT: Mr. Kevin Bridges, AIR-130, Room 815, Federal Aviation Administration, 800 Independence Avenue, SW., Washington, DC 20591. Telephone (202) 385-4627, fax (202) 385-4651, e-mail to: kevin.bridges@faa.gov.

SUPPLEMENTARY INFORMATION:

Comments Invited

You are invited to comment on the cancellation of the three (3) TSOs and the revocation of those associated TSOAs by submitting written data, views, or arguments to the above address. Comments received may be examined, both before and after the closing date, in Room 815 at the above address, weekdays except Federal holidays, between 8:30 a.m. and 4:30 p.m. The Director, Aircraft Certification Service, will consider all comments received on or before the closing date.

Background

The Omega navigation system ceased operation on September 30, 1997. Because the Omega system has been decommissioned for over 10 years, the FAA intends to cancel all Omega Technical Standard Orders and revoke all associated Technical Standard Order Authorizations (TSOA).

The FAA database contains three (3) specific TSOs for equipment based on the Omega system as a means of navigation, and numerous TSOAs issued for the design and manufacture of Omega avionics equipment. This announcement serves as notice to all Omega TSOA holders that the FAA is cancelling all TSOs (including active historical TSOs) and revoking all TSOAs for Omega avionics equipment.

Issued in Washington, DC, on August 1, 2008.
Susan J. M. Cabler,
Assistant Manager, Aircraft Engineering Division, Aircraft Certification Service.

[FR Doc. E8-18133 Filed 8-7-08; 8:45 am]

BILLING CODE 4910-13-M